DEPARTMENT OF THE INTERIOR

National Park Service

National Register of Historic Places; Notification of Pending Nominations and Related Actions

Nominations for the following properties being considered for listing or related actions in the National Register were received by the National Park Service before April 11, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 12, 2009.

J. Paul Loether,
Chief, National Register of Historic Places/National Historic Landmarks Program.

ARIZONA

Maricopa County

McCullough-Price House, 300 S. Chandler Village Dr., Chandler, 09000311

ARKANSAS

Clay County

Rector Waterworks Building, 703 S. Main St., Rector, 09000312

Crittenden County

Highway A-7, Gilmore to Turrell, (Arkansas Highway History and Architecture MPS), Old US 63 between Acwin St. in Gilmore and ditch No. 2 in Turrell, Gilmore, 09000313

Logan County

Paris Commercial Historic District, Roughly bounded by N. Express, Short Mountain, N. First, E. Pine, E. and W. Academy Sts., Paris, 09000314

Phillips County

Battery D (Boundary Expansion), Address Restricted, Helena-West Helena, 09000317

Poinsett County

Highway A-7, Bridges Historic District, (Historic Bridges of Arkansas MPS) Old US 63 over Ditch No. 1 and its reliefs, Marked Tree, 09000318

Highway A-7, Ditch No. 6 Bridge, (Historic Bridges of Arkansas MPS) E. Davis St. over Ditch No. 6 SE. of Steel Bridge Rd., Tyronza, 09000319

Highway A-7, Tyronza Segment, (Arkansas Highway History and Architecture MPS) Old US 63 between Memphis Ave. and the Tyronza River, Tyronza, 09000320

Polk County

Mena Commercial Historic District, Mena St. between Port Arthur and Gillham Ave., Sherwood Ave. between Mena and DeQueen St., and US 71 S. between Mena, Mena, 09000321

Pulaski County

Mitchell, James, School, 2410 S. Battery St., Little Rock, 09000322

Smith, Morgan, Dr., House, 5110 Stagecoach Rd., Little Rock, 09000323

Randolph County

Pocahontas Commercial Historic District, Roughly bounded by Rice, Thomasville, Jordan and McDonald Sts., Pocahontas, 09000315

St. Francis County

Highway B-1, Little Telico Creek Bridge, (Historic Bridges of Arkansas MPS) SFC 213 Rd. over Little Telico Creek, Caldwell, 09000316

CONNECTICUT

Hartford County

Connecticut General Life Insurance Company Headquarters, 900 Cottage Grove Rd., Bloomfield, 09000324

GEORGIA

Cobb County

Pace, Solomon and Penelopy, House, 3057 Paces Mill Rd., Vinings, 09000325

Douglas County

Basket Creek Cemetery, 7829 Capps Ferry Rd., Douglasville, 09000326

Henry County

Hooten, James and Bertha, House, 115 Atlanta St., McDonough, 09000327

IDAHO

Twin Falls County

Salmon Falls Dam, Three Creek Hwy, Rogerson, 09000328

IOWA

Buchanan County

Malek Theatre, 116 2nd Ave. NE., Independence, 09000329 3

MISSOURI

Adair County

Kirksville Courthouse Square Historic District, 200 block N. Franklin St., 100 block E. Harrison St., 100 block W. Harrison St., Kirksville, 09000330

NORTH CAROLINA

Cleveland County

West Warren Street Historic District, Roughly bounded by W. Warren, McBrayer, Blanton, and Whisnant Sts., Shelby, 09000331

Gates County

Sunbury High School, 101 NC 32 N., Sunbury, 09000332

VIRGINIA

Caroline County

Grove, The, 33115 Mount Gideon Rd., Hanover, 09000333

Danville Independent city, Danville Tobacco Warehouse and Residential Historic District (Boundary Increase), 209 and 215 Main St., Danville, 09000334

Fairfax County

Woodlawn Quaker Meetinghouse, 8990 Woodlawn Rd., Fort Belvoir, 09000335

Fauquier County

Bristersburg Historic District, Area including parts of Elk Run and Bristersburg Rds., Bristersburg, 09000336

Sumerduck Historic District, Area including parts of Sumerduck Rd., Sumerduck, 09000337

Patrick County

Barnard Farm, 2878 VA 648, Ararat, 09000338

Request for MOVE has been made for the following resource:

NORTH CAROLINA

Dare County

Bodie Island Lifesaving/Coast Guard Station, S. of Nags Head on NC 12, Nags Head, 79000251

[FR Doc. E9-9476 Filed 4-24-09; 8:45 am]

BILLING CODE P